DEPARTMENT OF DEFENSE

Office of the Secretary

Defense Business Board; Notice of Federal Advisory Committee Meeting

AGENCY: Chief Management Officer, Department of Defense. ACTION: Notice of Federal Advisory Committee meeting.

SUMMARY: The Department of Defense (DoD) is publishing this notice to announce that the following Federal Advisory Committee meeting of the Defense Business Board (“the Board”) will take place.

DATES: Closed to the public Wednesday, May 8, 2019 from 7:20 a.m. to 9:45 a.m. Open to the public Wednesday, May 8, 2019 from 10:00 a.m. to 11:30 a.m.

ADDRESSES: The closed and open portions of the meeting will be in Room 3E869 in the Pentagon, Washington, DC.

FOR FURTHER INFORMATION CONTACT: Roma Laster, (703) 695-7563 (Voice), (703) 614-4365 (Facsimile), roma.k.laster.civ@mail.mil (Email). Mailing address is Defense Business Board, 1155 Defense Pentagon, Room 5B1088A, Washington, DC 20301-1155. Website: http://dbb.defense.gov/.

SUPPLEMENTARY INFORMATION: Due to circumstances beyond the control of the Department of Defense (DoD) and the Designated Federal Officer, the Defense Business Board was unable to provide public notification required by 41 CFR 102-3.150(a) concerning its May 8, 2019 meeting of the Defense Business Board. Accordingly, the Advisory Committee Management Officer for the Department of Defense, pursuant to 41 CFR 102-3.150(b), waives the 15-calendar day notification requirement.

This meeting is being held under the provisions of the Federal Advisory Committee Act (FACA) (5 U.S.C. Appendix), the Government in the Sunshine Act (5 U.S.C. 552b), and 41 CFR 102-3.140 and 102-3.150.

Purpose of the Meeting: The mission of the Board is to examine and advise the Secretary of Defense on overall DoD management and governance. The Board provides independent advice which reflects an outside private sector perspective on proven and effective best business practices that can be applied to DoD.

Agenda: The meeting will begin in a Closed Session where the Board will receive a classified briefing on 5G technology and a classified Indo-Pacific foreign area briefing. The meeting will then move to a Public Session where the Board will provide an update on current DBB activities; present, deliberate, and vote on its Defense Acquisition Industry-Government Exchange study; and provide an overview of the Board's support to DoD reform efforts.

Meeting Agenda:

Closed Session

7:20 a.m.-8:15 a.m.—(TS) 5G Technology Brief

8:15 a.m.-9:45 a.m.—(TS) Indo-Pacific Foreign Area Brief

Public Session

10:00 a.m.-10:05 a.m.—Opening remarks—Board Designated Federal Officer

10:05 a.m.-10:20 a.m.—Update on Current Board Activities

10:20 a.m.-11:00 a.m.—DBB Study: “Defense Acquisition Industry-Government Exchange”

11:00 a.m.-11:30 a.m.—Overview of Board Support to DoD Reform Efforts

11:30 a.m.-Closing remarks—Board Designated Federal Officer

Meeting Accessibility: In accordance with section 10(d) of the FACA and 41 CFR 102-3.155, the DoD has determined that the Board's meeting will be partially closed to the public. Specifically, the CMO, in consultation with the DoD Office of General Counsel, has determined in writing that a portion of the meeting will be closed to the public because it will consider classified information and other matters covered by 5 U.S.C. 552b(c)(1). The 5 U.S.C. 552b(c)(1) determination is based on the consideration that the 5G technology and foreign area briefings will involve classified matters of national defense or foreign policy. Such classified material is so intertwined with the unclassified material that it cannot reasonably be segregated into separate discussions without disclosing secret or otherwise classified material.

Pursuant to FACA and 41 CFR 102-3.140, that portion of the meeting from 10:00 a.m. to 11:30 a.m. is open to the public. Public attendees requiring escort should arrive at the Pentagon Visitor Center (adjacent to the Pentagon Metro Entrance) with sufficient time to complete security screening no later than 9:15 a.m. on May 8, 2019. To complete security screening, come prepared to present two forms of identification one of which must be a pictured identification card.

Written Statements: Written comments may be submitted to the Designated Federal Officer (DFO) via email to mailbox address: osd.pentagon.odam.mbx.defense-business-board@mail.mil in either Adobe Acrobat or Microsoft Word format. Please note that since the Board operates under the provisions of the FACA, all submitted comments and public presentations will be treated as public documents and will be made available for public inspection, including, but not limited to, being posted on the Board's website.

Dated: May 7, 2019.
Aaron T. Siegel,
Alternate OSD Federal Register Liaison Officer, Department of Defense.

[FR Doc. 2019-09737 Filed 5-10-19; 8:45 am]

BILLING CODE 5001-06-P